INTERNATIONAL BOUNDARY AND WATER COMMISSION, UNITED STATES AND MEXICO

Notice of Availability of the Final Environmental Assessment and Finding of No Significant Impact for Aquatic Habitat Restoration in the Rio Grande Canalization Project, Sierra and Doña Ana Counties, New Mexico and El Paso County, Texas

AGENCY: United States Section, International Boundary and Water Commission, United States and Mexico (USIBWC).

ACTION: Notice.

SUMMARY: The USIBWC hereby gives notice that the Final Environmental Assessment (EA) and Finding of No Significant Impact (FONSI) for Aquatic Habitat Restoration in the Rio Grande Canalization Project, Sierra and Doña Ana Counties, New Mexico and El Paso County, Texas is available.

FOR FURTHER INFORMATION CONTACT: Elizabeth Verdecchia, Natural Resources Specialist, USIBWC, El Paso, Texas 79902. Telephone: (915) 832-4701, Fax: (915) 493-2428, email: Elizabeth.Verdecchia@ibwc.gov.

Availability: The electronic version of the Final EA and FONSI is available at the USIBWC web page: https://www.ibwc.gov/EMD/EIS_EA_Public_Comment.html.

SUPPLEMENTARY INFORMATION: On June 4, 2009, the USIBWC issued a Record of Decision (ROD) on the long-term management of the Rio Grande Canalization Project (RGCP) in southern New Mexico and western Texas. The ROD committed the USIBWC to the restoration of aquatic and riparian habitat at up to 30 sites over 10 years (through 2019). In May 2019, USIBWC prepared a Draft EA to analyze the potential impact of seven action alternatives and a No Action Alternative to implement aquatic habitat within the RGCP. After extensive public input and subsequent development of preliminary designs, USIBWC re-evaluated alternative sites for aquatic habitat and assessed the feasibility of three additional sites, two of which were added to the EA.

In February 2021, USIBWC prepared an Amended Draft EA, which evaluated the potential impacts on natural, cultural and other resources of ten alternatives, including the No Action Alternative. Restoration actions could include invasive vegetation removal, native vegetation planting, overbank lowering, bank cuts, natural levee breaches, secondary channels, bank destabilization, channel widening, arroyo mouth management, construction of inset floodplains, construction of wetland depressions, and use of supplemental water for on-site irrigation. A Draft Amended FONSI was prepared for five Preferred Alternatives which USIBWC modified from the previous Draft EA based on public input.

The Final five Preferred Alternatives target creation or enhancement of a total of 11.6 acres of aquatic features and 18.8 acres of riparian habitat. They include two simpler sites, Broad Canyon Arroyo, which could be constructed from conceptual designs, and Montoya Intercepting Drain Option A, which would be part of the Sunland Park East Levee construction; two complex sites requiring engineering designs and stakeholder agreements prior construction, Las Cruces Effluent and Mesilla Valley Bosque State Park; and one site to be used as part of compensatory mitigation for future levee construction, Downstream of Courchesne Bridge.

Permits would be required from the United States Army Corps of Engineers for dredge and fill of Waters of the United States, per the Clean Water Act Sections 404 and 401. USIBWC would compensate increased water consumption through a variety of mechanisms, including acquiring water rights, negotiating agreements with the stakeholders, and obtaining appropriate State of New Mexico permits and Department of Justice approvals.

Pursuant to Section 102(2)(c) of the National Environmental Policy Act (NEPA) of 1969, the Council on Environmental Quality Final Regulations (40 CFR parts 1500 through 1508), and the USIBWC Operational Procedures for Implementing Section 102 of NEPA, published in the Federal Register September 2, 1981, potential impacts on natural, cultural, and other resources were evaluated. A Finding of No Significant Impact has been prepared for the Preferred Alternatives based on a review of the facts and analyses contained in the EA. An environmental impact statement will not be prepared unless additional information which may affect this decision is brought to our attention within 30 days from the date of this Notice.

Jennifer Pena,
Chief Legal Counsel, International Boundary and Water Commission, United States Section.

[FR Doc. 2021-25889 Filed 11-29-21; 8:45 am]

BILLING CODE 7010-01-P